DEPARTMENT OF TRANSPORTATION

Federal Aviation Administration

14 CFR Part 71

[Docket No. FAA-2015-4514; Airspace Docket No. 15-AEA-9]

Amendment of Class E Airspace for the Following New York Towns: Elmira, NY; Ithaca, NY; Poughkeepsie, NY

AGENCY: Federal Aviation Administration (FAA), DOT.

ACTION: Final rule; technical amendment, withdrawal.

SUMMARY: This action withdraws a Final rule; technical amendment published in the Federal Register on November 30, 2015, amending Class E airspace at Elmira/Corning Regional Airport, Elmira, NY; Ithaca Tompkins Regional Airport, Ithaca, NY; and Duchess County Airport, Poughkeepsie, NY is being withdrawn. The FAA has determined that withdrawal of the final rule is warranted as additional analysis is needed.

DATES: Effective 0901 UTC. As of January 13, 2016 the final rule; technical amendment published November 30, 2015, at 80 FR 74676, is withdrawn.

FOR FURTHER INFORMATION CONTACT: John Fornito, Operations Support Group, Eastern Service Center, Federal Aviation Administration, P.O. Box 20636, Atlanta, Georgia 30320; telephone (404) 305-6364.

SUPPLEMENTARY INFORMATION:

History

On November 30, 2015, the FAA published in the Federal Register a final rule, technical amendment to amend Class E airspace at Elmira/Corning Regional Airport, Elmira, NY; Ithaca Tompkins Regional Airport, Ithaca, NY; and Duchess County Airport, Poughkeepsie, NY. (80 FR 74676). Docket No. FAA-2015-4514. Subsequent to publication the FAA found errors in the airspace descriptions that now need further analysis. Therefore, the final rule is being withdrawn.

Lists of Subjects in 14 CFR Part 71

Airspace, Incorporation by reference, Navigation (air).

The Withdrawal

In consideration of the foregoing, the final rule technical amendment for FR Doc. FAA-2015-4514, Airspace Docket No. 15-AEA-9 as published in the Federal Register of November 30, 2015 (80 FR 74676) (FR Doc. 2015-30187), is hereby withdrawn.

Authority: 49 U.S.C. 106(f), 106(g); 40103, 40113, 40120; E.O. 10854, 24 FR 9565, 3 CFR, 1959-1963 Comp., p. 389.

Issued in College Park, Georgia, on December 18, 2015.
Ryan W. Almasy,
Acting Manager, Operations Support Group, Eastern Service Center, Air Traffic Organization.

[FR Doc. 2016-00172 Filed 1-12-16; 8:45 am]

BILLING CODE 4910-13-P